DEPARTMENT OF TRANSPORTATION

Federal Aviation Administration

14 CFR Part 39

[Docket No. FAA-2005-21935; Directorate Identifier 2005-CE-37-AD; Amendment 39-14387; AD 2005-24-07]

RIN 2120-AA64

Airworthiness Directives; Pacific Aerospace Corporation Ltd. Model 750XL Airplanes

AGENCY: Federal Aviation Administration (FAA), DOT.

ACTION: Final rule.

SUMMARY: The FAA adopts a new airworthiness directive (AD) for certain Pacific Aerospace Corporation Ltd Model 750XL airplanes. This AD requires you to inspect the condition of the left and right outer panel attachment lugs for damage (scoring and gouging) and/or cracks (using a fluorescent penetrant inspection procedure for the crack inspection); to inspect the spacing of left and right outer panel attachment lugs; to replace the lugs if damage is found; and to make necessary corrections to the spacing. This AD results from mandatory continuing airworthiness information (MCAI) issued by the airworthiness authority for New Zealand. We are issuing this AD to prevent structural failure of the outer panel and spar due to a cracked, bent, or distorted condition of the left and right outer panel attachment lugs; and incorrect spacing of the left and right outer panel attachment lugs. This failure could lead to loss of control of the airplane.

DATES: This AD becomes effective on December 29, 2005.

As of December 29, 2005, the Director of the Federal Register approved the incorporation by reference of certain publications listed in the regulation.

ADDRESSES: To get the service information identified in this AD, contact Pacific Aerospace Corporation Ltd., Hamilton Airport, Private Bag HN 3027, Hamilton, New Zealand; telephone: (64) 7-843-6144; facsimile: (64) 7-843-6134.

To view the AD docket, go to the Docket Management Facility; U.S. Department of Transportation, 400 Seventh Street, SW., Nassif Building, Room PL-401, Washington, DC 20590-001 or on the Internet at http://www.dms.dot.gov. The docket number is FAA-2005-21935; Directorate Identifier 2005-CE-37-AD.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

What events have caused this AD? The Civil Aviation Authority (CAA), which is the airworthiness authority for New Zealand, recently notified FAA that an unsafe condition may exist on certain Pacific Aerospace Corporation Ltd Model 750XL airplanes. The CAA reports the attachment lug spacers are incorrectly sized and cause the lugs to distort when the attachment bolt is tightened. Also, outer wing attachment lugs were used to secure the spar in the wing build jig without spacers. This may have bent the clevis legs outward. These two problems may cause cracking and/or degradation of fatigue life.

What is the potential impact if FAA took no action? A cracked, bent, or distorted condition of the left and right outer panel attachment lugs and incorrect spacing of the left and right outer panel attachment lugs could result in structural failure. This failure could lead to loss of control of the airplane.

Has FAA taken any action to this point? We issued a proposal to amend part 39 of the Federal Aviation Regulations (14 CFR part 39) to include an AD that would apply to certain Pacific Aerospace Corporation Ltd Model 750XL airplanes. This proposal was published in the Federal Register as a notice of proposed rulemaking (NPRM) on August 19, 2005 (70 FR 48657). The NPRM proposed to require you to inspect the condition and spacing of the left and right outer panel attachment lugs; replace the lugs if damage is found; and make any necessary corrections to the spacing.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 4 airplanes in the U.S. registry.

What would be the cost impact of this AD on owners/operators of the affected airplanes? We estimate the following costs to do this proposed inspection:

Labor cost | Total cost per airplane | Total cost on U.S. operators
6 workhours × $65 = $390 | $390 | $1,560

We estimate the following costs to do any necessary replacements that would be required based on the results of this inspection. We have no way of determining the number of airplanes that may need this replacement:

Labor cost | Parts cost | Total cost per airplane
16 workhours × $65 = $1,040 | Pacific Aerospace Corporation Ltd. will provide warranty credit for replacement costs | $1,040

Authority for this Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-21935; Directorate Identifier 2005-CE-37-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-24-07 Pacific Aerospace Corporation Ltd.: Amendment 39-14387; Docket No. FAA-2005-21935; Directorate Identifier 2005-CE-37-AD.

When Does This AD Become Effective?

(a) This AD becomes effective on December 29, 2005.

What Other ADs Are Affected by This Action?

(b) None.

What Airplanes Are Affected by This AD?

(c) This AD affects Model 750XL, serial numbers 101 through 115, that are certificated in any category.

What Is the Unsafe Condition Presented in This AD?

(d) This AD is the result of incorrect sizing of the attachment lug spacers causing the lugs to distort when the attachment bolt is tightened. Also, outer wing attachment lugs were used to secure the spar in the wing build jig without spacers. This may have bent the clevis legs outward. These two problems may cause cracking and/or degradation of fatigue life. The actions specified in this AD are intended to prevent structural failure of the outer panel and spar due to a cracked, bent, or distorted condition of the left and right outer panel attachment lugs; and incorrect spacing of the left and right outer panel attachment lugs. This failure could lead to loss of control of the airplane.

What Must I Do To Address This Problem?

(e) To address this problem, you must do the following:

Actions | Compliance | Procedures
(1) Inspect the left and right outer panel, paired center wing lugs, and the outer panel single lugs for damage (scoring or gouging) | Upon accumulating 300 hours time-in-service (TIS) or within 50 hours TIS after December 29, 2005 (the effective date of this AD), whichever occurs later | Follow Pacific Aerospace Corporation Ltd. Mandatory Service Bulletin PACSB/XL/015, Issue 3, amended April 8, 2005.
(2) Inspect the left and right outer panel, paired center wing lugs, and the outer panel single lugs for cracks. You must use a fluorescent penetrant inspection procedure instead of the dye penetrant inspection procedure stated in the service information | Upon accumulating 300 hours TIS or within 50 hours TIS after December 29, 2005 (the effective date of this AD), whichever occurs later | Follow Pacific Aerospace Corporation Ltd. Mandatory Service Bulletin PACSB/XL/015, Issue 3, amended April 8, 2005.
(3) If any damage and/or cracks are found during the inspections required in paragraph (e)(1) and (e)(2) of this AD, you must replace the lugs | Prior to further flight, after any inspection where damage and/or cracks are found | Follow Pacific Aerospace Corporation Ltd. Mandatory Service Bulletin PACSB/XL/015, Issue 3, amended April 8, 2005.
(4) Inspect the left and right wing paired lugs for parallel spacing within 0.010 inches. If the paired lugs are not parallel within 0.010 inches, reshim outer wing attachment points and correct spacing | Inspect upon accumulating 300 hours TIS or within 50 hours TIS after December 29, 2005 (the effective date of this AD), whichever occurs later. Correct spacing and reshim prior to further flight after the inspection | Follow Pacific Aerospace Corporation Ltd. Mandatory Service Bulletin PACSB/XL/015, Issue 3, amended April 8, 2005.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Karl Schletzbaum, Aerospace Engineer, FAA, Small Airplane Directorate, 901 Locust, Room 301, Kansas City, Missouri 64106; telephone: (816) 329-4146; facsimile: (816) 329-4090.

Is There Other Information That Relates to This Subject?

(g) CAA Airworthiness Directive DCA/750XL/5, dated April 28, 2005; and Pacific Aerospace Corporation Ltd. Mandatory Service Bulletin PACSB/XL/015, Issue 3, amended April 8, 2005 also address the subject of this AD.

Does This AD Incorporate Any Material by Reference?

(h) You must do the actions required by this AD following the instructions in Pacific Aerospace Corporation Ltd. Mandatory Service Bulletin PACSB/XL/015, Issue 3, amended April 8, 2005. The Director of the Federal Register approved the incorporation by reference of this service bulletin in accordance with 5 U.S.C. 552(a) and 1 CFR part 51. To get a copy of this service information, contact Pacific Aerospace Corporation Ltd., Hamilton Airport, Private Bag HN 3027, Hamilton, New Zealand; telephone: (64) 7-843-6144; facsimile: (64) 7-843-6134. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-21935; Directorate Identifier 2005-CE-37-AD.

Issued in Kansas City, Missouri, on November 17, 2005.
David R. Showers,
Acting Manager, Small Airplane Directorate, Aircraft Certification Service.

[FR Doc. 05-23260 Filed 11-28-05; 8:45 am]

BILLING CODE 4910-13-P